ENVIRONMENTAL PROTECTION AGENCY

[EPA-HQ-OPP-2011-0985; FRL-9358-5]

Flonicamid; Applications To Add New Food Uses on Previously Registered Pesticide Products

AGENCY: Environmental Protection Agency (EPA).

ACTION: Notice of receipt.

SUMMARY: This notice announces the receipt of applications to add new food uses on previously registered pesticide products containing the insecticide, flonicamide, pursuant to the provisions of section 3(c) of the Federal Insecticide, Fungicide, and Rodenticide Act (FIFRA), as amended. EPA is publishing this notice pursuant to section 3(c)(4) of FIFRA.

DATES: Comments must be received on or before October 29, 2012.

ADDRESSES: Submit your comments, identified by docket identification (ID) number EPA-HQ-OPP-2011-0985, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Carmen Rodia, Registration Division (7504P), Office of Pesticide Programs, Environmental Protection Agency, 1200 Pennsylvania Avenue NW., Washington, DC 20460-0001; telephone number: (703) 306-0327; email address: rodia.carmen@epa.gov.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number (EPA-HQ-OPP-2011-0985) and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Registration Applications

EPA received four applications for the addition of new food uses on previously registered pesticide products containing the insecticide, flonicamid, N-(cyanomethyl)-4-(trifluoromethyl)-3-pyridinecarboxamide, (Decisions No. 457721; 457723; 457724; and 457725), pursuant to the provisions of section 3(c) of FIFRA, and is publishing this notice of receipt of these applications pursuant to section 3(c)(4) of FIFRA. Notice of receipt of these applications does not imply a decision by the Agency on these applications. For actions being evaluated under the Agency's public participation process for registration actions, there will be an additional opportunity for a 30-day public comment period on the proposed decision, risk assessments, and draft label. Please see the Agency's public participation Web site for additional information on this process http://www.epa.gov/pesticides/regulating/registration-public-involvement.html.

1. Registration Number: 71512-7. Docket Number: EPA-HQ-OPP-2011-0985. Company name and address: ISK Bioscience Corporation, 7470 Auburn Road, Suite A, Concord, OH 44077. Active ingredient: Flonicamid. Product Name: Technical Flonicamid Insecticide. Proposed Use(s): Berry, low-growing (subgroup 13-07G); Cucumber (for greenhouse use); and Rapeseed (subgroup 20A).

2. Registration Number: 71512-9. Docket Number: EPA-HQ-OPP-2011-0985. Company name and address: ISK Bioscience Corporation, 7470 Auburn Road, Suite A, Concord, OH 44077. Active ingredient: Flonicamid. Product Name: Flonicamid 50WG. Proposed Use(s): Berry, low-growing (subgroup 13-07G); Cucumber (for greenhouse use); and Rapeseed (subgroup 20A).

3. Registration Number: 71512-10. Docket Number: EPA-HQ-OPP-2011-0985. Company name and address: ISK Bioscience Corporation, 7470 Auburn Road, Suite A, Concord, OH 44077. Active ingredient: Flonicamid. Product Name: Beleaf 50SG Insecticide. Proposed Use(s): Berry, low-growing (subgroup 13-07G); Cucumber (for greenhouse use); and Rapeseed (subgroup 20A).

4. Registration Number: 71512-14. Docket Number: EPA-HQ-OPP-2011-0985. Company name and address ISK Bioscience Corporation, 7470 Auburn Road, Suite A, Concord, OH 44077. Active ingredient: Flonicamid. Product Name: Flonicamid 50WG for Manufacturing and Repacking Use Only. Proposed Use(s): Berry, low-growing (subgroup 13-07G); Cucumber (for greenhouse use); and Rapeseed (subgroup 20A).

List of Subjects

Environmental protection, Pesticides and pests.

Dated: September 21, 2012.
Daniel J. Rosenblatt,
Acting Director, Registration Division, Office of Pesticide Programs.

[FR Doc. 2012-23981 Filed 9-27-12; 8:45 am]

BILLING CODE 6560-50-P